DEPARTMENT OF ENERGY

Western Area Power Administration

Parker-Davis Project-Rate Order No. WAPA-138

AGENCY: Western Area Power Administration, DOE.

ACTION: Notice of Proposed Formula Rates for Firm Electric and Transmission Service.

SUMMARY: The Western Area Power Administration (Western) is proposing modifications to the rate methodology used to develop Parker-Davis Project (P-DP) firm electric and transmission service formula rates. The modifications to the rate methodology will change the allocation factors used to apportion certain expenses between generation and transmission revenue requirements. The firm electric and transmission service rates resulting from the rate methodology modifications are equal to current rates and will provide sufficient revenue to pay all annual costs, including interest expense, and repayment of required investment within the allowable period. Western is also proposing changes to the current billing practices for P-DP long-term firm transmission service. Under the proposed billing changes, customers will be required to pay for long-term firm transmission service one month in advance of service. Western will prepare a brochure that provides detailed information on the modifications and proposed firm electric and transmission service formula rates. Current formula rates under Rate Schedules PD-F6, PD-FT6, PD-FCT6, and PD-NFT6 expire September 30, 2008. The proposed formula rates under Rate Schedules PD-F7, PD-FT7, PD-FCT7, and PD-NFT7 are scheduled to become effective on October 1, 2008, and will remain in effect through September 30, 2013. Publication of this Federal Register notice begins the formal process for the proposed formula rates.

DATES: The consultation and comment period will begin today and will end May 29, 2008. Western will accept written comments any time during the consultation and comment period. The proposed action constitutes a minor rate adjustment as defined by 10 CFR part 903. As such, Western has determined it is not necessary to hold a public information or public comment forum.

ADDRESSES: Send written comments to: J. Tyler Carlson, Regional Manager, Desert Southwest Customer Service Region, Western Area Power Administration, P.O. Box 6457, Phoenix, AZ 85005-6457, e-mail carlson@wapa.gov. Written comments may also be faxed to (602) 605-2490, attention: Jack Murray. Western will post information about the rate process on its Web site at http://www.wapa.gov/dsw/pwrmkt/RateAdjust/Main.htm. Western will post official comments received via letter, fax, and e-mail to its Web site after the close of the comment period. Western must receive written comments by the end of the consultation and comment period to ensure they are considered in Western's decision process.

FOR FURTHER INFORMATION CONTACT: Mr. Jack Murray, Rates Manager, Desert Southwest Customer Service Region, Western Area Power Administration, P.O. Box 6457, Phoenix, AZ 85005-6457, telephone (602) 605-2442, e-mail jmurray@wapa.gov.

SUPPLEMENTARY INFORMATION: Under the current rate methodology, formula rates for P-DP firm electric and transmission service are recalculated annually and designed to recover annual project costs, including interest expense, and make repayment of required investment within the allowable period. Costs that are readily identifiable as supporting either generation or transmission functions are directly allocated to generation or transmission revenue requirements. All other costs are apportioned between generation and transmission revenue requirements based on cost allocation factors. Current cost allocation factors include Supervisory Control and Data Acquisition, Capitalized Movable Equipment (CME), labor hours devoted to billing, and historic project investment. Western is proposing to modify the current rate methodology by eliminating the CME, labor hours devoted to billing, and historic project investment cost allocation factors. Western also proposes implementing a cost allocation factor that is the ratio of the number of customers receiving firm electric or transmission service to the total number of customers. At this time, the firm electric and transmission service rates resulting from the proposed modifications to the rate methodology are equal to current rates and will provide sufficient revenue to recover generation and transmission revenue requirements.

During informal discussions prior to the commencement of this rate adjustment process, Western received a request from customers to modify the billing practices for P-DP long-term firm transmission service. In the request, the customers noted that payments for firm electric service are required one month in advance of service and suggested that all parties be subject to the same billing terms and conditions. Current billing practices for P-DP long-term firm transmission service allow customers to pay after the fact, usually one month after service is provided. In response to this request, Western is proposing changes to billing practices so that customers will be required to pay for P-DP long-term firm transmission service one month in advance of service. This requirement is incorporated into Rate Schedule PD-FT7.

Rate Schedules PD-F6, PD-FT6, PD-FCT6, and PD-NFT6 were approved under Rate Order No. WAPA-75 for the period beginning November 1, 1997, and ending September 30, 2002.¹ These rate schedules were extended through September 30, 2004, by the approval of Rate Order No. WAPA-98 on September 13, 2002.² These rate schedules were extended again through September 30, 2006, by the approval of Rate Order No. WAPA-113 approved on September 2, 2004.³ These rate schedules were extended again through September 30, 2008, by Rate Order No. WAPA-131 approved on September 22, 2006.⁴

¹ WAPA-75 was approved by the Deputy Secretary of Energy on November 18, 1997 (62 FR 63150), and confirmed and approved by FERC on a final basis on March 10, 1998, in Docket No. EF98-5041-000 (82 FERC 62164).

² WAPA-98 was approved by the Secretary of Energy on September 13, 2002 (67 FR 60655), and filed with FERC for informational purposes only, and docketed by FERC on September 24, 2002, in Docket No. EF02-5041-000.

³ WAPA-113 was approved by the Deputy Secretary of Energy on September 2, 2004 (69 FR 55429), and filed with FERC for informational purposes only, and docketed by FERC on September 3, 2004, in Docket No. EF04-5042-000.

⁴ WAPA-131 was approved by the Deputy Secretary of Energy on September 22, 2006 (71 FR 57941), and filed with FERC for informational purposes only, and docketed by FERC on September 22, 2006, in Docket No. EF06-5042-000.

Legal Authority

The proposed modifications to the rate methodology described above constitutes a minor rate adjustment. Western has determined that it is not necessary to hold a public information or public comment forum for this proposed minor rate adjustment as defined by 10 CFR part 903. After review of public comments and possible amendments or adjustments, Western will recommend the Deputy Secretary of Energy approve the proposed formula rates on an interim basis.

Western is establishing firm electric and transmission service rates for P-DP under the Department of Energy Organization Act (42 U.S.C. 7152); the Reclamation Act of 1902 (ch. 1093, 32 Stat. 388), as amended and supplemented by subsequent laws, particularly section 9(c) of the Reclamation Project Act of 1939 (43 U.S.C. 485h(c)); and other acts that specifically apply to the project involved.

By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand or to disapprove such rates to the Federal Energy Regulatory Commission. Existing Department of Energy (DOE) procedures for public participation in power rate adjustments (10 CFR part 903) were published on September 18, 1985.

Availability of Information

All brochures, studies, comments, letters, memorandums, or other documents that Western initiates or uses to develop the proposed rates are available for inspection and copying at the Desert Southwest Customer Service Regional Office located at 615 South 43rd Avenue, Phoenix, AZ. Many of these documents and supporting information are also available on Western's Web site at http://www.wapa.gov/dsw/pwrmkt/RateAdjust/Main.htm.

Ratemaking Procedure Requirements

Environmental Compliance

In compliance with the National Environmental Policy Act of 1969 (NEPA) (42 U.S.C. 4321, et seq.); the Council on Environmental Quality Regulations for implementing NEPA (40 CFR parts 1500-1508); and DOE NEPA Implementing Procedures and Guidelines (10 CFR part 1021), Western has determined this action is categorically excluded from preparing an environmental assessment or an environmental impact statement.

Determination Under Executive Order 12866

Western has an exemption from centralized regulatory review under Executive Order 12866; accordingly, no clearance of this notice by the Office of Management and Budget is required.

Timothy J. Meeks,
Administrator.

[FR Doc. E8-9332 Filed 4-28-08; 8:45 am]

BILLING CODE 6450-01-P